ENVIRONMENTAL PROTECTION AGENCY

[ER-FRL-6614-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L65367-AK Rating EC2, Chugach National Forest, Proposed Revised Land and Resource Management Plan, Implementation, Glacier, Seward and Cordora Ranger Districts, Kenai Peninsula Borough, AK.

Summary: EPA expressed environmental concerns with the lack of clarity in the direction and protections in the proposed Standards and Guidelines and the lack of detail in the proposed monitoring and evaluation plan. EPA recommended that the FEIS be revised clarifying how the new plan would conform with the new planning rule, clarify and strengthen the standards and guidelines, revise and refine the monitoring plan, and provide information to support conclusions of the predicted effects.

Final EISs

ERP No. F-AFS-L65327-WA Stimson Alaska National Interest Lands Conservation Act (ANILCA) Access Easement Project, Easement Authorization Grant for Construction, Reconstruction and Use of Seven Road Segments for Hauling Logs and Resource Management, Colville National Forest, Sullivan Ranger District, Pend Oreille County, WA.

Summary: No formal comment letter was sent to the preparing agency.

ERP No. F-AFS-L65353-IDLakeface-Lamb Fuel Reduction Project, To Reduce the Risk of Lethal Fires within a Wildland/Urban Interface, Implementation, Idaho Panhandle National Forests, Priest Lake Ranger District, Bonner County, ID.

Summary: No formal comment letter was sent to the preparing agency.

ERP No. F-AFS-L65365-IDSwan Flat Timber Sale, Proposal to Cut and Haul Sawtimber, Caribou National Forest, Land Resource Management Plan (LRMP), Montpelier Ranger District, Bear Lake County, ID.

Summary: No formal comment letter was sent to the preparing agency.

ERP No. F-BLM-K67040-CAImperial Project, Open-Pit Precious Metal Mining Operation Utilizing Heap Leach Processes, Updated Information concerning “Endangered, Rare or Threatened” Biological Resources, Plan of Operations and Reclamation Plan Approvals, Right-of-Way Grants, Conditional Use/U.S. COE Permits, El Centro Resource Area, Desert District.

Summary: EPA commended BLM on its consideration of the unique characteristics of the project area within the California Desert Conservation Area, and the proposed project's potential irreparable degradation of sacred and historic values of the Indian Pass-Running Man Area of Traditional Cultural Concern, in identifying its preference for the No Action Alternative.

ERP No. F-COE-H36110-NBWestern Sarpy/Clear Creek Flood Reduction Study Including Environmental Restoration Component, Lower Platte River and Tributaries, Saunders and Sarpy Counties, NB.

Summary: EPA expressed its continuing objections to this levee project, as proposed, citing two significant environmental issues: (1) Project need and alternatives; and (2) economic analysis.

ERP No. F-SFW-K99029-CASan Joaquin County Multi-Species Habitat Conservation and Open Space Plan, Issuance of Incidental Take Permit, San Joaquin County, CA.

Summary: EPA expressed continued concern with the proposed SJMSCP's compliance with EPA's CWA Section 404(b)(1) guidelines. The Record of Decision (ROD) should state that CWA Section 404 coverage is not provided by the SJMSCP, describe Section 404(b)(1) requirements, and describe the measures that will be taken to ensure full compensation for temporal, spacial, and functional losses of open-space and multi-species habitat. EPA requested early notification and participation in the project's Regional General 404 Permit process.

ERP No. FS-FHW-A42026-NBUS Highway 75 Roadway Improvement, Murray, Nebraska (Highway N-1) to Bellevue, Nebraska (Fairview Road), Updated Information concerning Project Changes and Changes to the Existing Environmental Setting, Funding, Cass and Sarpy Counties, NB.

Summary: EPA expressed no objections to the project as proposed.

Dated: January 16, 2001.
Joseph C. Montgomery,
Director, NEPA Compliance Division, Office of Federal Activities.

[FR Doc. 01-1688 Filed 1-18-01; 8:45 am]

BILLING CODE 6560-50-U